DEPARTMENT OF THE INTERIOR

Bureau of Ocean Energy Management

[Docket No. BOEM-2016-0036]; [MMAA104000]

Commercial Leasing for Wind Power on the Outer Continental Shelf Offshore the Island of Oahu, Hawaii—Call for Information and Nominations (Call)

AGENCY: Bureau of Ocean Energy Management (BOEM), Interior.

ACTION: Call for Information and Nominations for Commercial Leasing for Wind Power on the Outer Continental Shelf, Offshore the Island of Oahu, Hawaii.

SUMMARY: With this Call for Information and Nominations (Call), BOEM invites the submission of information and nominations from parties interested in obtaining one or more commercial wind energy leases that would allow lessees to propose the construction of wind energy projects on the Outer Continental Shelf (OCS) ¹ offshore the island of Oahu, Hawaii. In general, the OCS is defined as 3—200 nautical miles from shore. Although this announcement is not itself a leasing announcement, the area described herein as the “Oahu Call Area,” or portions thereof, may be made available for future leasing. BOEM will use responses to this Call to gauge specific interest in acquiring commercial wind leases in some or all of the Oahu Call Area, as required by 43 U.S.C. 1337(p)(3).

¹ As defined in 43 U.S.C. 1331(a), the term OCS means “all submerged lands lying seaward and outside of the area of lands beneath navigable waters, as defined in section 1301 of this title, and of which the subsoil and seabed appertain to the United States and are subject to its jurisdiction and control.”

Parties wishing to submit a nomination in response to this Call should submit detailed and specific information as described in the section entitled, “Required Nomination Information.” A “nomination” for purpose of this Call would be a submission from a company interested in a commercial wind energy lease within the Oahu Call Area.

This announcement also requests comments and information from interested and affected parties about site conditions, resources, and existing uses within or in close proximity to the Oahu Call Area that would be relevant to BOEM's review of any nominations submitted and/or to BOEM's subsequent decision to offer all or part of the Oahu Call Area for commercial wind leasing. The information BOEM is requesting is described in the section of this Call entitled, “Requested Information from Interested or Affected Parties.”

This Call is published pursuant to subsection 8(p)(3) of the OCS Lands Act (OCSLA), 43 U.S.C. 1337(p)(3), as well as the implementing regulations at 30 CFR part 585.

The Oahu Call Area described in this notice is located on the OCS offshore the island of Oahu, Hawaii. The Oahu Call Area consists of two subareas, the area to the north of Oahu (“Oahu North”) and the area to the south of Oahu (“Oahu South”). Oahu North is approximately 7 to 24 nautical miles Northwest of Kaena Point and consists of 17 full and 20 partial OCS blocks. Oahu South is approximately 7 to 35 nautical miles South of Diamond Head and consists of 44 full and 32 partial OCS blocks. In total, the Oahu Call Area consists of the sum of these two subareas, totaling 61 full and 52 partial OCS blocks. A detailed description of the area and how it was developed is described in the section of this Call entitled, “Description of the Oahu Call Area.”

DATES: BOEM must receive nominations describing your interest within the Oahu Call Area by a postmarked date of August 8, 2016 for your nomination to be considered. BOEM will consider only those nominations received by August 8, 2016. BOEM requests comments or other submissions of information by this same date. Parties having already submitted unsolicited lease requests prior to this publication do not need to resubmit the areas previously requested in their unsolicited lease requests. However, such parties may submit modifications to the areas they are requesting for lease during the comment period associated with this notice. Such modifications must conform to the first requirement of the section in this Call entitled, “Required Nomination Information.”

Submission Procedures: If you are submitting a nomination for a lease in response to this Call, you must submit your nomination to the following address: BOEM, Pacific OCS Region, 760 Paseo Camarillo, Suite 102 (CM 102), Camarillo, California 93010. A paper copy submitted to this address, postmarked by the deadline noted above, is the only method for submitting a nomination that BOEM will accept. In addition to a paper copy of the nomination, you must include an electronic copy of the nomination on a data storage device. BOEM will list the parties who submitted nominations and the location of the proposed lease areas (i.e., OCS blocks nominated) on the BOEM Web site after the 45-day comment period has closed.

Comments and other submissions of information may be submitted by either of the following two methods:

1. Federal eRulemaking Portal: http://www.regulations.gov. In the entry entitled, “Enter Keyword or ID,” enter BOEM-2016-0036, and then click “search.” Follow the instructions to submit public comments and view supporting and related materials available for this notice.

2. U.S. Postal Service or other delivery service. Send your comments and information to the following address: Bureau of Ocean Energy Management, Pacific OCS Region, 760 Paseo Camarillo, Suite 102 (CM 102), Camarillo, California 93010.

All responses will be reported on http://www.regulations.gov. If you wish to protect the confidentiality of your nomination or comment, clearly mark the relevant sections and request that BOEM treat them as confidential. Please label privileged or confidential information that you consider privileged or confidential with the notation “Contains Confidential Information,” and consider submitting such information as a separate attachment. Treatment of confidential information is addressed in the section of this Call entitled, “Protection of Privileged or Confidential Information.” Information that is not labeled as privileged or confidential will be regarded by BOEM as suitable for public release.

FOR FURTHER INFORMATION CONTACT: Ms. Karen Herrera, BOEM, Pacific OCS Region, 760 Paseo Camarillo, Suite 102 (CM 102), Camarillo, California, 93010, (805) 384-6263 or Karen.Herrera@boem.gov.

SUPPLEMENTARY INFORMATION:

Purpose of the Call for Information and Nominations

The OCS Lands Act requires BOEM to award leases competitively, unless BOEM makes a determination that there is no competitive interest (43 U.S.C. 1337(p)(3)). One of the purposes of this notice is to inform the public that, based on the submittal of several unsolicited lease requests, BOEM has determined that there may be competitive interest in developing all or portions of the Oahu Call Area. Descriptions of the unsolicited lease requests submitted are provided in the section of this notice entitled, “Existing Unsolicited Lease Requests Offshore Oahu.” With this Call, BOEM is also soliciting new expressions of interest in obtaining a lease in the Oahu Call Area.

This Call also requests information from interested and affected parties on issues relevant to BOEM's review of nominations for potential leasing in the Oahu Call Area. A lease, whether issued through a competitive or noncompetitive process, would give the lessee the exclusive right to subsequently seek BOEM approval for the development of wind energy in the lease area. A lease does not grant the lessee the right to construct any facilities; rather, the lease grants the lessee the right to submit to BOEM a Site Assessment Plan (SAP) and Construction and Operations Plan (COP), which BOEM must approve before the lessee may conduct the proposed activities in the lease area (30 CFR 585.600 and 585.601).

Although BOEM believes that competitive interest may exist for the Oahu Call Area, a formal determination will be made after the close of the comment period provided in this Call. Depending on the input received during the comment period for the Call, BOEM may proceed with the competitive leasing process as set forth in 30 CFR 585.211 through 585.225; or the noncompetitive leasing process as set forth in 30 CFR 585.231 and 232; or a combination of the two. For instance, BOEM may determine that there is no competitive interest in Oahu North and that there is competitive interest in Oahu South. In this case, BOEM could proceed with the noncompetitive leasing process for Oahu North and the competitive leasing process for Oahu South. These processes are explained in detail in the section of this notice entitled, “BOEM's Planning and Leasing Process.”

Regardless of whether the leasing process is competitive, noncompetitive, or both, it will include subsequent opportunities for the public to provide input, and any proposed actions will be reviewed thoroughly for potential environmental impacts and multiple use/planning consequences. For example, the Department of Defense (DOD) conducts operations and readiness activities for both hardware and personnel on the OCS. BOEM will consult with the DOD regarding potential issues concerning offshore testing, training and operational activities, and will develop appropriate stipulations to avoid or mitigate conflicts with DOD in the Call Areas. The final area(s) that may be offered for lease, if any, has not yet been determined, and may differ from the Oahu Call Area as identified in this Call.

Background

The Energy Policy Act of 2005 (EPAct)

EPAct amended OCSLA to authorize the Secretary of the Interior (Secretary) to grant leases, easements, or rights-of-way (ROWs) on the OCS for activities that are not otherwise authorized by law and produce or support the production, transportation, or transmission of energy from sources other than oil or gas. Subsection 8(p) requires the Secretary to issue regulations to carry out the new energy development authority on the OCS. The Secretary delegated this authority to issue leases, easements, and ROWs, and to promulgate associated regulations, to the Director of BOEM. On April 29, 2009, BOEM issued the Renewable Energy and Alternate Uses of Existing Facilities on the OCS rule, 30 CFR part 585, which can be found at: http://www.boem.gov/uploadedFiles/30_CFR_585.pdf.

Executive Order 13547: Stewardship of the Ocean, Our Coasts, and the Great Lakes

On July 19, 2010, the President signed Executive Order 13547 (Order) establishing a national ocean policy and the National Ocean Council (75 FR 43023). The Order establishes a comprehensive, integrated national policy for the stewardship of the ocean, our coasts, and the Great Lakes. Where BOEM actions affect the ocean or coast, the Order requires BOEM to take such action as necessary to implement this policy, the stewardship principles and national priority objectives adopted by the Order, with guidance from the National Ocean Council. BOEM appreciates the importance of coordinating its planning endeavors with other OCS users and regulators and relevant Federal agencies (e.g., the U.S. Fish and Wildlife Service (USFWS), the National Park Service (NPS), the U.S. Coast Guard (USCG), and the National Oceanic and Atmospheric Administration (NOAA), among others) and intends to follow principles of marine planning and coordinate with the Pacific Islands Regional Planning Body established by the National Ocean Council.

BOEM Hawaii Intergovernmental Renewable Energy Task Force

BOEM established a Hawaii Intergovernmental Renewable Energy Task Force (Task Force) in 2011, to facilitate coordination among relevant Federal agencies and affected state and local governments throughout the leasing process. The Task Force supports the review of requests for commercial and research leases and rights-of-way grants for power cables on the Federal OCS, and provides public information on renewable energy developments proposed within Federal OCS waters offshore of Hawaii coastlines. The Task Force meeting materials are available on the BOEM Web site at: http://www.boem.gov/Hawaii/.

Actions Taken by the State of Hawaii in Support of Renewable Energy Development

Establishing Renewable Portfolio Standards

The State of Hawaii established a renewable portfolio goal in 2001. This goal was replaced with an enforceable renewable portfolio standard (RPS) through Act 95 in 2004. In 2009, Act 155 increased the RPS to 40 percent by 2040. Finally, in 2015, State of Hawaii Governor David Ige signed into law Act 97, which directs the state's utilities to generate 100 percent of their electricity sales from renewable energy resources by 2045. As the most oil dependent state in the nation, Hawaii's transition to renewable resources for power generation will improve Hawaii's economy, environment and energy security.

Hawaii Clean Energy Initiative

In 2008, the State of Hawaii, in partnership with the U.S. Department of Energy, signed a memorandum of understanding (MOU) to accomplish the goal of transforming Hawaii's energy economy from one largely dependent on imported fossil fuels to one using only renewable energy. This MOU established the foundation for the Hawaii Clean Energy Initiative (HCEI). In 2014, the U.S. Department of Energy renewed its long-term partnership with the State of Hawaii, in HCEI 2.0, and committed to assisting Hawaii in exceeding the state's renewable energy goals by working in collaboration with energy leaders, partners and stakeholders to address Hawaii's unique energy challenges. To learn more about the HCEI, see: http://www.hawaiicleanenergyinitiative.org/.

Existing Unsolicited Lease Requests Offshore Oahu

On January 22, 2015, BOEM received two lease requests from AW Hawaii Wind, LLC (AW Hawaii). On October 8, 2015, BOEM received a lease request from Progression Hawaii Offshore Wind, Inc. (Progression). BOEM has determined that both potential developers are legally, technically, and financially qualified to hold a renewable energy lease under 30 CFR 585.106 and 107.

AW Hawaii Oahu Northwest Project

AW Hawaii proposes to lease an area northwest of Oahu (“Oahu Northwest Project”). The proposed Oahu Northwest Project consists of the development of a floating offshore wind facility with an approximate nameplate capacity of 400 megawatts (MW) of renewable energy generation. The area included in the lease request consists of 10 partial OCS blocks (encompassing 32 sub-blocks in total) comprising approximately 13.4 square nmi (4,608 hectares). A map of the AW Hawaii Oahu Northwest Project is available on the BOEM Web site at: http://www.boem.gov/AWH-Northwest-Proposed-Map/.

AW Hawaii Oahu South Project

AW Hawaii also proposes to lease an area south of Oahu (“Oahu South Project”). The proposed Oahu South Project consists of the development of a floating offshore wind facility with an approximate nameplate capacity of 400 megawatts (MW) of renewable energy generation. The area included in the lease request consists of 10 partial OCS blocks (encompassing 34 sub-blocks in total) comprising approximately 14.27 square nmi (4,896 hectares). A map of the AW Hawaii Oahu South Project is available on the BOEM Web site at: http://www.boem.gov/AWH-South-Proposed-Map/.

Progression Lease Request

Progression submitted an unsolicited lease request proposing to lease an area on the OCS south of Oahu's coast (“South Coast of Oahu Project”), but distinct from the area requested for lease by AW Hawaii in its Oahu South Project. Progression's South Coast of Oahu Project consists of a floating offshore wind facility with an approximate nameplate capacity of 400 MW of renewable energy. The lease request includes 7 full and 12 partial OCS blocks (encompassing 218 sub-blocks in total) comprising approximately 91.5 square nmi (31,392 hectares). A map of the South Coast of Oahu Project is available on the BOEM Web site at: http://www.boem.gov/Progression-Proposed-Project-Area-Map/.

BOEM's Planning and Leasing Process

Depending on the input received in response to this Call, BOEM will proceed with the competitive leasing process, the noncompetitive leasing process, or a combination of the two.

I. Competitive Leasing Process

If, after receiving nominations in response to this Call, BOEM determines competitive interest exists in all or a portion of the Oahu Call Area, it would follow the steps required by 30 CFR 585.211 through 585.225, as outlined below.

(1) Area Identification: BOEM will identify areas for environmental analysis and consideration for leasing in consultation with appropriate Federal agencies, states, local governments, and other interested parties. BOEM will consider comments and nominations made in response to this Call with respect to areas and issues that should receive consideration and analysis, including but not limited to: areas with unique geological conditions, archeological sites, and other uses of the OCS. The environmental analysis will detail the potential effect of leasing (primarily site characterization surveys and wind resource assessment) on the human, marine, and coastal environments, and BOEM will develop measures to mitigate adverse impacts, including lease stipulations and conditions. BOEM will comply with the requirements of the National Environmental Policy Act (NEPA), the Coastal Zone Management Act (CZMA), and other applicable Federal statutes as they apply to its decision to issue one or more leases in the Oahu Call Area.

(2) Proposed Sale Notice: If BOEM decides to proceed with competitive leasing after conducting its Area Identification analysis and completing the necessary environmental reviews, it will publish a Proposed Sale Notice (PSN) in the Federal Register with a comment period of 60 days and send the PSN to the necessary parties pursuant to 30 CFR 585.211. The PSN will describe the area(s) that may be offered for leasing and the proposed terms and conditions of the potential lease sale, including the proposed auction format, lease form, and lease provisions. Additionally, the PSN will describe the proposed criteria and process for evaluating bids.

(3) Final Sale Notice: If BOEM decides to proceed with a lease sale after considering comments received in response to the PSN, it will publish the Final Sale Notice (FSN) in the Federal Register at least 30 days before the date of the sale. BOEM will publish the criteria for winning bid determinations in the FSN.

(4) Bid Submission and Evaluation: Following publication of the FSN in the Federal Register, BOEM would offer the lease(s) through a competitive auction process, using the procedures specified in the FSN. The conduct of the sale, including bids and bid deposits, if applicable, would be reviewed for technical and legal adequacy. BOEM would ensure bidders have complied with all applicable regulations and the terms of the FSN. BOEM reserves the right to reject any or all bids, as well as the right to withdraw a lease area from the sale.

(5) Issuance of a Lease: Following the selection of a winning bid or bids by BOEM, the submitter(s) is/are notified of the decision and provided a set of official lease documents for execution. The successful bidder(s) will be required to execute the lease, pay the remainder of the bonus bid, if applicable, and file the required financial assurance within 10 business days of receiving the lease documents. Upon receipt of the required payments, financial assurance, and properly executed lease forms, BOEM would issue a lease to the successful bidder(s).

II. Noncompetitive Leasing Process

BOEM's noncompetitive leasing process would include the following steps:

(1) Determination of No Competitive Interest: If, after evaluating all relevant information, including responses to this Call, BOEM determines there is no competitive interest in all or a portion of the Oahu Call Area, it may proceed with the noncompetitive lease issuance process pursuant to 30 CFR 585.231 and 232. BOEM would ask if the sole respondent who nominated a particular area wants to proceed with acquiring the lease; if so, the respondent would be required to submit an acquisition fee as specified in 30 CFR 585.502(a). After receiving the acquisition fee, BOEM would follow the process outlined in 30 CFR 585.231(d) through (i), which would include the publication of a Determination of No Competitive Interest in the Federal Register.

(2) Review of Lease Request: BOEM would comply with the relevant requirements of NEPA, the Coastal Zone Management Act (CZMA), Endangered Species Act of 1973 (ESA), National Historic Preservation Act (NHPA), and other applicable Federal statutes before issuing a lease noncompetitively. Further, BOEM would coordinate and consult, as appropriate, with relevant Federal agencies, other affected or interested parties, and affected state and local governments in formulating lease terms, conditions, and stipulations.

(3) Lease Issuance: After completing its review of the lease request, BOEM may offer the lease.

Environmental Review Process

BOEM intends to prepare an environmental assessment (EA) pursuant to NEPA, which will consider the environmental impacts associated with issuing commercial wind leases and approving site assessment activities on those leases within some or all of the Oahu Call Area. BOEM is publishing, concurrently with this Call, a Notice of Intent (NOI) to prepare an EA, which seeks public input in identifying the environmental issues and reasonable alternatives to be considered in the EA to inform our leasing decision.

The EA will consider the environmental impacts associated with leasing and site characterization scenarios (including geophysical, geotechnical, archaeological, and biological surveys) and site assessment scenarios (including the installation and operation of meteorological towers and/or buoys) within the Oahu Call Area. The NOI also solicits information pertaining to impacts to historic properties, which include historic districts, archaeological sites, and National Historic Landmarks. It is important to note that the environmental effects of the construction or operation of any wind energy facility would not be within the scope of this environmental review process, but rather would be considered under a separate, subsequent, project-specific NEPA analysis after a Construction and Operations Plan (COP) is submitted.

Several consultations may be conducted concurrently with, and integrated into, the NEPA process. These consultations include, but are not limited to, those required by the CZMA, ESA, the Magnuson-Stevens Fishery Conservation and Management Act, and Section 106 of the NHPA. The NOI can be found at: http://www.boem.gov/hawaii/.

In the event a lease is issued and the lessee subsequently submits a Site Assessment Plan (SAP) pursuant to 30 CFR 585.605-618, BOEM would then determine whether the EA adequately considers the environmental impacts of the activities proposed in the lessee's SAP. If BOEM determines the analysis in the EA adequately considers these impacts, then no further NEPA analysis would be required before BOEM makes a decision on the SAP. If, on the other hand, BOEM determines the analysis in the EA is inadequate for that purpose, BOEM would conduct additional NEPA analysis before making a decision on the SAP. In either case, after the completion of any necessary environmental reviews, BOEM would make a decision to approve, approve with modifications, or disapprove the SAP.

Once a lessee is prepared to propose a wind energy generation facility on its lease, it would submit a Construction and Operations Plan (COP). BOEM then would prepare a separate site- and project-specific NEPA analysis of the proposed project. This analysis would likely take the form of an Environmental Impact Statement, and would provide stakeholders with comprehensive information regarding the environmental impacts of the construction and operation of the proposed facilities. This analysis would inform BOEM's decision to approve, approve with modification, or disapprove a lessee's COP pursuant to 30 CFR 585.628. This NEPA process also would provide additional opportunities for public involvement.

Description of the Oahu Call Area

The Oahu Call Area consists of two OCS sub-areas. Oahu North is located approximately 7-24 nmi west of Kaena Point, Oahu. Oahu South is located approximately 7-35 nmi south of Barbers Point, Oahu. BOEM may adjust this potential leasing area in response to comment submissions and information received in response to this Call and the associated NOI, described above in the section entitled, “Environmental Review Process.”

Map of the Oahu Call Area

A map of the Oahu Call Area can be found at: http://www.boem.gov/Hawaii.apx. A large-scale map of the Oahu Call Area showing boundaries with numbered blocks is available from BOEM at the following address: Bureau of Ocean Energy Management, Pacific OCS Region, Renewable Energy Section, 760 Paseo Camarillo, Suite 102 (CM 102), Camarillo, California 93010. Phone (805) 384-6263, Fax: (805) 388-1049.

Table 1—List of OCS Blocks Included in Oahu North
Protraction name | Protraction No. | Block No. | Sub-block
Kauai Channel | NF04-08 | 6180 | N, O, P.
Kauai Channel | NF04-08 | 6181 | M, N.
Kauai Channel | NF04-08 | 6228 | F, G, H, J, K, L, N, O, P.
Kauai Channel | NF04-08 | 6229 | D, E, F, G, H, I, J, K, L, M, N, O, P.
Kauai Channel | NF04-08 | 6230 | ALL.
Kauai Channel | NF04-08 | 6231 | A, B, C, E, F, G, H, I, J, K, L, M, N, O, P.
Kauai Channel | NF04-08 | 6232 | E, I, J, M, N, O, P.
Kauai Channel | NF04-08 | 6233 | M.
Kauai Channel | NF04-08 | 6278 | B, C, D, F, G, H, J, K, L, N, O, P.
Kauai Channel | NF04-08 | 6279 | ALL.
Kauai Channel | NF04-08 | 6280 | ALL.
Kauai Channel | NF04-08 | 6281 | ALL.
Kauai Channel | NF04-08 | 6282 | ALL.
Kauai Channel | NF04-08 | 6283 | ALL.
Kauai Channel | NF04-08 | 6284 | ALL.
Kauai Channel | NF04-08 | 6285 | A, B, C, E, F, G, H, I, J, K, L, M, N, O, P.
Kauai Channel | NF04-08 | 6328 | B, C, D, F, G, H, K, L, P.
Kauai Channel | NF04-08 | 6329 | ALL.
Kauai Channel | NF04-08 | 6330 | ALL.
Kauai Channel | NF04-08 | 6331 | ALL.
Kauai Channel | NF04-08 | 6332 | ALL.
Kauai Channel | NF04-08 | 6333 | ALL.
Kauai Channel | NF04-08 | 6334 | A, B, C, D, E, F, G, H, I, J, K, M, N.
Kauai Channel | NF04-08 | 6335 | A, B.
Kauai Channel | NF04-08 | 6378 | D, H.
Kauai Channel | NF04-08 | 6379 | ALL.
Kauai Channel | NF04-08 | 6380 | ALL.
Kauai Channel | NF04-08 | 6381 | ALL.
Kauai Channel | NF04-08 | 6382 | ALL.
Kauai Channel | NF04-08 | 6383 | A, B, C, D, E, F, G, H, I, J, K, M, N, O.
Kauai Channel | NF04-08 | 6384 | A.
Kauai Channel | NF04-08 | 6429 | B, C, D, F, G, H.
Kauai Channel | NF04-08 | 6430 | A, B, C, D, E, F, G, H, K, L.
Kauai Channel | NF04-08 | 6431 | A, B, C, D, E, F, G, H, I, J, K, L, N, O.
Kauai Channel | NF04-08 | 6432 | ALL.
Kauai Channel | NF04-08 | 6433 | A, B, C, E, F, I, J, N.
Kauai Channel | NF04-08 | 6482 | B, C, F.

Table 2—List of OCS Blocks Included in Oahu South
Protraction name | Protraction No. | Block No. | Sub-block
Kauai Channel | NF04-08 | 6939 | D, H.
Kauai Channel | NF04-08 | 6940 | A, B, C, D, E, F, G, H, I, J, K, L, N, O, P.
Kauai Channel | NF04-08 | 6990 | B, C, D, G, H, K, L, P.
Oahu | NF04-09 | 6901 | ALL.
Oahu | NF04-09 | 6902 | ALL.
Oahu | NF04-09 | 6903 | A, B, C, E, F, G, H, I, J, K, L, M, N, O, P.
Oahu | NF04-09 | 6904 | E, F, G, H, I, J, K, L, M, N, O, P.
Oahu | NF04-09 | 6905 | I, J, K, L, M, N, O, P.
Oahu | NF04-09 | 6906 | M, N, O, P.
Oahu | NF04-09 | 6951 | ALL.
Oahu | NF04-09 | 6952 | ALL.
Oahu | NF04-09 | 6953 | ALL.
Oahu | NF04-09 | 6954 | ALL
Oahu | NF04-09 | 6955 | ALL.
Oahu | NF04-09 | 6956 | ALL.
Oahu | NF04-09 | 6957 | A, B, C, E, F, G, H, I, J, K, L, M, N, O, P.
Oahu | NF04-09 | 6958 | E, F, I, J, K, L, M, N, O, P.
Oahu | NF04-09 | 6959 | M,N.
Oahu | NF04-09 | 7001 | A, B, C, D, F, G, H, K, L, O, P.
Oahu | NF04-09 | 7002 | ALL.
Oahu | NF04-09 | 7003 | ALL.
Oahu | NF04-09 | 7004 | ALL.
Oahu | NF04-09 | 7005 | ALL.
Oahu | NF04-09 | 7006 | ALL.
Oahu | NF04-09 | 7007 | ALL.
Oahu | NF04-09 | 7008 | ALL.
Oahu | NF04-09 | 7009 | ALL.
Oahu | NF04-09 | 7010 | E, I.
Oahu | NF04-09 | 7051 | D, H.
Oahu | NF04-09 | 7052 | A, B, C, D, E, F, G, H, I, J, K, L, N, O, P.
Oahu | NF04-09 | 7053 | ALL.
Oahu | NF04-09 | 7054 | ALL.
Oahu | NF04-09 | 7055 | ALL.
Oahu | NF04-09 | 7056 | ALL.
Oahu | NF04-09 | 7057 | ALL.
Oahu | NF04-09 | 7058 | ALL.
Oahu | NF04-09 | 7059 | A, B, C, E, F, I.
Oahu | NF04-09 | 7102 | B, C, D, G, H, L, P.
Oahu | NF04-09 | 7103 | ALL.
Oahu | NF04-09 | 7104 | ALL.
Oahu | NF04-09 | 7105 | ALL.
Oahu | NF04-09 | 7106 | ALL.
Oahu | NF04-09 | 7107 | ALL.
Oahu | NF04-09 | 7108 | A, B, C, E, F, G, I, J, M, N.
Maui | NF04-12 | 6003 | A, B, C, D, E, F, G, H, J, K, L, N, O, P.
Maui | NF04-12 | 6004 | ALL.
Maui | NF04-12 | 6005 | ALL.
Maui | NF04-12 | 6006 | ALL.
Maui | NF04-12 | 6007 | ALL.
Maui | NF04-12 | 6008 | A, B, E, M.
Maui | NF04-12 | 6053 | B, C, D, G, H, L, P.
Maui | NF04-12 | 6054 | ALL.
Maui | NF04-12 | 6055 | ALL.
Maui | NF04-12 | 6056 | ALL.
Maui | NF04-12 | 6057 | ALL.
Maui | NF04-12 | 6058 | A, M, N.
Maui | NF04-12 | 6103 | D.
Maui | NF04-12 | 6104 | A, B, C, D, E, F, G, H, J, K, L, N, O, P.
Maui | NF04-12 | 6105 | ALL.
Maui | NF04-12 | 6106 | ALL.
Maui | NF04-12 | 6107 | ALL.
Maui | NF04-12 | 6108 | A, B, E, F, I, J, K, L, M, N, O, P.
Maui | NF04-12 | 6109 | ALL.
Maui | NF04-12 | 6110 | A, E, I, M.
Maui | NF04-12 | 6154 | C, D, G, H, K, L, P.
Maui | NF04-12 | 6155 | ALL.
Maui | NF04-12 | 6156 | ALL.
Maui | NF04-12 | 6157 | ALL.
Maui | NF04-12 | 6158 | ALL.
Maui | NF04-12 | 6159 | ALL.
Maui | NF04-12 | 6160 | A, E, I, M.
Maui | NF04-12 | 6205 | A, B, C, D.
Maui | NF04-12 | 6206 | A.
Maui | NF04-12 | 6208 | B, C, D.
Maui | NF04-12 | 6209 | A, B, C, D.
Maui | NF04-12 | 6210 | A.

Areas Not Included in the Call

During the process of delineating the Oahu Call Area, BOEM determined that the following areas would not be appropriate for leasing and development at this time:

1. Hawaiian Islands Humpback Whale National Marine Sanctuary (Humpback Whale NMS). Under the OCSLA, BOEM may not issue leases within any unit of a National Marine Sanctuary. Therefore, BOEM excluded the Humpback Whale NMS from leasing consideration. Note that the Oahu Call Area is located adjacent to the Humpback Whale NMS. BOEM will coordinate with the National Oceanic and Atmospheric Administration's Office of National Marine Sanctuaries and other relevant agencies regarding potential impacts to the Humpback Whale NMS and, if necessary, will develop appropriate lease stipulations and mitigation measures to reduce or eliminate such impacts.

2. Bottomfish Restricted Fishing Areas. Certain areas are set aside by the State of Hawaii as Bottomfish Restricted Fishing Areas. In order to avoid potential multiple use conflicts, BOEM is not including these areas in the Oahu Call Area.

3. Areas with Water Depths Beyond 1,100 meters. BOEM removed areas in water depths beyond 1,100 meters from consideration for leasing at this time. Based on a National Renewable Energy Laboratory (NREL) technical report (NREL, TP-6A20-55049, Improved Offshore Wind Resource Assessment in Global Climate Stabilization Scenarios, 2012), BOEM considers 1,100 meters to be the reasonable limit on water depth for the purposes of determining potential areas for lease, at this time.

4. Low Wind Resource Areas. BOEM removed areas with average annual wind speeds below 7 meters per second (m/s). Based on the NREL technical report (NREL, TP-6A20-55049, Improved Offshore Wind Resource Assessment in Global Climate Stabilization Scenarios, 2012), a 7 m/s wind speed was considered to be a conservative lower limit for offshore wind resource.

Navigational Considerations

BOEM analyzed USCG 2013 and 2014 Automatic Identification System (AIS) data, including density plots for various individual vessel types (e.g., tankers, cargo vessels, tugs, etc.) that traverse the OCS offshore Oahu. BOEM used this AIS data to inform its determination of potential areas suitable for leasing on the OCS offshore Oahu. The AIS data used to conduct this analysis, in addition to other AIS tools, can be downloaded at: http://marinecadastre.gov/ais/.

Consideration of Requested Areas

In developing the Oahu Call Area, BOEM considered the areas requested by AW Hawaii and Progression. Both developers have conducted stakeholder engagement on Oahu and have made their proposals considering wind resource, water depth, and proximity to shore.

Areas of Interest for Further Analysis

BOEM is seeking public comment regarding the identification of historic properties or potential impacts to historic properties located in the vicinity of the Oahu Call Area that could result from the proposed action (i.e., lease issuance and potential site assessment activities). Specifically, BOEM is requesting information on historic sites, districts, and National Historic Landmarks, as well as cultural corridors, traditional cultural properties, and other historic properties.

Required Nomination Information

If you intend to submit a nomination for a commercial wind energy lease in the areas identified in this notice, you must provide the following information:

1. The BOEM Protraction name, number, and specific whole or partial OCS blocks within the Oahu Call Area that are of interest for commercial wind leasing, including any required buffer area. If your proposed lease area includes partial blocks, include the sub-block letter (A-P). Additionally, you should submit a shapefile or geodatabase of the project area compatible with ArcGIS 10.3 and projected in WGS 84_UTM Zone 4N.

2. A description of your objectives and the facilities you would use to achieve those objectives.

3. A preliminary schedule of proposed activities, including those leading to commercial operations.

4. Available and pertinent data and information concerning renewable energy resources and environmental conditions in the area(s) you wish to lease, including energy and resource data and information that you used to evaluate the Oahu Call Area. Where applicable, spatial information should be submitted in a format compatible with ArcGIS 10.3 and projected in WGS 84_UTM Zone 4N.

5. Documentation demonstrating you are legally qualified to hold a lease, as set forth in 30 CFR 585.106 and 107. Examples of the documentation appropriate for demonstrating your legal qualifications and related guidance can be found in Chapter 2 and Appendix B of the BOEM Renewable Energy Framework Guide Book available at: http://www.boem.gov/Renewable-Energy-Program/Regulatory-Information/REnGuidebook_03August2009_3_-pdf.aspx. Legal qualification documents will be placed in an official file that may be made available for public review. If you wish any part of your legal qualification documentation to be kept confidential, clearly identify what should be kept confidential and why such documentation should be confidential, and submit it under separate cover (see “Protection of Privileged or Confidential Information Section,” below). Any documentation you submit to demonstrate your legal qualifications must be provided to BOEM in both paper and electronic formats. BOEM considers an Adobe PDF file on a storage media device to be an acceptable format for an electronic copy.

6. Documentation demonstrating you are technically and financially capable of constructing, operating, maintaining, and decommissioning the facilities described in (2) above. Guidance regarding the required documentation to demonstrate your technical and financial qualifications can be found at: http://www.boem.gov/Renewable-Energy-Program/Regulatory-Information/QualificationGuidelines-pdf.aspx. Any documentation you submit to demonstrate your technical and financial qualifications must be provided to BOEM in both paper and electronic formats. BOEM considers an Adobe PDF file on a storage media device to be an acceptable format for an electronic copy.

It is critical that you submit a complete nomination so BOEM may evaluate your submission in a timely manner. If BOEM reviews your nomination and finds it is incomplete, BOEM will inform you in a letter describing the specific information missing from your nomination. You must then submit this missing information in order for BOEM to deem your submission complete. You will be given 15 business days from the date of that letter to submit the information. If you do not meet this deadline, or if BOEM determines this second submission is still incomplete, then BOEM retains the right to deem your nomination invalid. In such a case, BOEM will not process your nomination.

Participating in a Lease Sale Without Responding to This Call

It is not required that you submit a nomination in response to this Call in order to submit a bid in a potential competitive lease sale offshore Oahu. However, you will not be able to participate in such a lease sale unless you demonstrate prior to the sale that you are legally qualified to hold a BOEM renewable energy lease, and you demonstrate that you are technically and financially capable of constructing, operating, maintaining, and decommissioning the facilities you would propose to install on your lease. To ensure BOEM has sufficient time to process your qualifications package, you must submit this package prior to or during the PSN 60-day public comment period. More information can be found at: http://www.boem.gov/Renewable-Energy-Program/Regulatory-Information/QualificationGuidelines-pdf.aspx

Requested Information From Interested or Affected Parties

BOEM is requesting specific and detailed comments from Federal, state, and local governments, Native Hawaiians, and the public regarding the following:

1. Geological, geophysical, and biological conditions (including bottom and shallow hazards and live bottom) in the area described in this Call.

2. Historic properties, including archaeological or cultural resources, potentially affected by the construction of meteorological towers, the installation of meteorological buoys, or commercial wind development in the areas identified in this Call.

3. Existing uses of the areas, including navigation (commercial and recreational vessel use), fishing locations, and commercial fishing areas.

4. Information relating to potential impacts resulting from the siting of wind turbine generators in the Oahu Call Area.

5. Available and pertinent data and information concerning renewable energy resources and environmental conditions in the area identified in this Call. Where applicable, spatial information should be submitted in a format compatible with ArcGIS 10.3 and projected in WGS 84_UTM Zone 4N.

6. Habitats that may require special attention during siting and construction.

7. Other relevant socioeconomic, technical, biological, and/or environmental information. Socioeconomic information could include information on non-monetary credits offered at the lease sale stage or recommendations on community benefits.

Protection of Privileged or Confidential Information

Freedom of Information Act

BOEM will protect privileged or confidential information you submit when required by the Freedom of Information Act (FOIA). Exemption 4 of FOIA applies to trade secrets and commercial or financial information that is privileged or confidential. If you wish to protect the confidentiality of such information, clearly label it with “Contains Confidential Information” and request BOEM treat it as confidential, and consider submitting such information as a separate attachment. BOEM will not disclose such information if it qualifies for exemption from disclosure under FOIA. Information not labeled as privileged or confidential will be regarded by BOEM as suitable for public release.

BOEM will not treat as confidential any aggregate summaries of such information or comments not containing such information. Additionally, BOEM will not treat as confidential (1) the legal title of the nominating entity (for example, the name of your company), or (2) the list of whole or partial blocks that you are nominating.

Section 304 of the National Historic Preservation Act (16 U.S.C. 470w-3(a))

BOEM is required to withhold the location, character, or ownership of historic resources if it determines disclosure may, among other things, risk harm to the historic resources or impede the use of a traditional religious site by practitioners. Entities that are protected under NHPA should designate information falling under Section 304 of NHPA as confidential.

Dated: June 16, 2016.
Abigail Ross Hopper,
Director, Bureau of Ocean Energy Management.

[FR Doc. 2016-14830 Filed 6-23-16; 8:45 am]

BILLING CODE 4310-MR-P